DEPARTMENT OF TRANSPORTATION

Office of the Secretary of Transportation

Federal Aviation Administration

[Docket No. OST-2001-9849]

Notice of Market-based Actions to Relieve Airport Congestion and Delay

AGENCY: Federal Aviation Administration (FAA), Department of Transportation (DOT).

ACTION: Notice of comment period closing date.

SUMMARY: This action establishes a new closing date for the comment period in DOT's request for public comment on possible market-based approaches to relieving airport congestion and delay. After the September 11 terrorist attacks, DOT indefinitely suspended the closing date for the comment period.

DATES: Comments should be received by July 22, 2002.

ADDRESSES: Comments should be mailed or delivered in duplicate to: Docket Clerk, Docket No. OST-2001-9849, Room PL-401, U.S. Department of Transportation Dockets, 400 Seventh Street, SW., Washington, DC 20590. Comments may also be filed electronically to the following Internet address: DMS.dot.gov. Except for Federal holidays, comments may be filed or examined weekdays in Room PL-401 between 9 a.m. and 5 p.m.

Comments placed in the docket will be available for viewing on the Internet.

FOR FURTHER INFORMATION CONTACT: Larry Phillips, Senior Policy Advisor, 202-366-4868 or Nancy Kessler, Senior Attorney-Advisor, 202-366-9301.

SUPPLEMENTARY INFORMATION:

Background

On August 21, 2001, the Department published a notice in the Federal Register seeking comments on the possible role, feasibility, and effectiveness of using market-based approaches to relieve flight delays and congestion at busy airports. 66 FR 43947. Market-based approaches are meant to include the development and imposition of airport fees that are designed to encourage air carriers to use limited airport capacity in a more efficient manner. It was and remains DOT's intention to use this and other requests for comments, along with the full array of public policy tools, to evaluate the possible use of market-based approaches at airports to reduce delays, to improve airport capacity management, enhance competition, and promote the efficiency of the overall aviation system. As indicated in the August 21, 2001 notice, the Department also invited comments on how administrative actions could work to relieve congestion at busy airports.

Following the terrorist attacks on September 11, the FAA temporarily ceased all non-military flights in the United States and imposed new security measures prior to the resumption of commercial air service. After commercial service resumed, air carriers reduced their flight schedules significantly, thereby reducing congestion at formerly busy airports. Given these events, and the major operational changes air carriers made in response to the new environment, on November 5, 2001, the Department published a notice in the Federal Register suspending the closing date for the comment period in this proceeding until further notice. 66 FR 55978. The Department indicated in that notice that, at a later date, it would publish a notice setting forth the new closing date for comments.

Over the past several months, air carriers have been slowly rebuilding their schedules, and traffic levels are beginning to approach normal levels. Indeed, given the FAA's recent projection of increased traffic levels during 2003, significant congestion and flight delays at certain major airports may occur in the not too distant future. Accordingly, it is an appropriate time to resume the discussion of how market-based approaches could help relieve congestion.

Therefore, we are reopening the comment period for 90 days from publication of this notice.

Issued on April 15, 2002, in Washington, DC.
Susan McDermott,
Deputy Assistant Secretary for Aviation and International Affairs, Department of Transportation.

[FR Doc. 02-9775 Filed 4-19-02; 8:45 am]

BILLING CODE 4910-62-P